DEPARTMENT OF HOMELAND SECURITY

Coast Guard

33 CFR Part 117

[CGD01-07-112]

Drawbridge Operation Regulations; Mystic River, Charlestown and Boston, MA

AGENCY: Coast Guard, DHS.

ACTION: Notice of temporary deviation from regulations.

SUMMARY: The Commander, First Coast Guard District, has issued a temporary deviation from the regulation governing the operation of the S99 Alford Street Bridge across the Mystic River, mile 1.4, between Charlestown and Boston, Massachusetts. Under this temporary deviation the S99 Alford Street Bridge may remain in the closed position from 7 a.m. through 7 p.m. on July 27, 2007. In addition, the bridge may remain in the closed position from 7 a.m. on August 28, 2007 through 11:59 p.m. on August 30, 2007. Vessels that can pass under the draw without a bridge opening may do so at all times. This deviation is necessary to facilitate emergency mechanical repairs.

DATES: This deviation is effective from 7 a.m. on July 27, 2007 through 11:59 p.m. on August 30, 2007.

ADDRESSES: Materials referred to in this document are available for inspection or copying at the First Coast Guard District, Bridge Branch Office, 408 Atlantic Avenue, Boston, Massachusetts 02110, between 7 a.m. and 3 p.m., Monday through Friday, except Federal holidays. The telephone number is (617) 223-8364. The First Coast Guard District Bridge Branch Office maintains the public docket for this temporary deviation.

FOR FURTHER INFORMATION CONTACT: John McDonald, Project Officer, First Coast Guard District, at (617) 223-8364.

SUPPLEMENTARY INFORMATION: The S99 Alford Street Bridge across the Mystic River, mile 1.4, between Charlestown and Boston, Massachusetts, has a vertical clearance in the closed position of 7 feet at mean high water and 16 feet at mean low water. The existing drawbridge operation regulations are listed at 33 CFR 117.609(a).

The owner of the bridge, the City of Boston, requested a temporary deviation to facilitate emergency mechanical repairs at the bridge that must be performed with all due speed to assure safe continued operation of the bridge.

Under this temporary deviation the S99 Alford Street Bridge need not open for the passage of vessel traffic from 7 a.m. on July 27, 2007 through 7 p.m. on July 27, 2007 and from 7 a.m. on August 28, 2007 through 11:59 p.m. on August 30, 2007. Vessels that can pass under the bridge without a bridge opening may do so at all times.

In accordance with 33 CFR 117.35(e), the bridge must return to its regular operating schedule immediately at the end of the designated time period. This deviation from the operating regulations is authorized under 33 CFR 117.36.

Dated: July 26, 2007.
Gary Kassof,
Bridge Program Manager, First Coast Guard District.

[FR Doc. E7-15162 Filed 8-3-07; 8:45 am]

BILLING CODE 4910-15-P